DEPARTMENT OF COMMERCE

Census Bureau

[Docket Number: 231128-0279; X-RIN 0607-XC072]

Geographically Updated Population Certification Program

AGENCY: Census Bureau, Department of Commerce.

ACTION: Notice of program reinstatement.

SUMMARY: Effective January 1, 2024, the Census Bureau will reinstate the Geographically Updated Population Certification Program (GUPCP). At that time, the Census Bureau will resume processing applications for certified decennial census population and housing counts associated with updated government boundaries. This service was suspended on January 1, 2019, to accommodate the taking of the 2020 Census (see the Federal Register, October 19, 2018). The resumption of this service provides the requesting government a new certification of 2020 Census population and housing counts based on boundary updates that became legally effective after the 2020 Census. Government boundaries effective on or before January 1, 2020 were used for 2020 Census population and housing tabulation. While GUPCP was originally scheduled for reinstatement in 2022, resource demands following the 2020 Census have delayed its relaunch until 2024. Resumption of the program continues a fee-based service that the Census Bureau has provided since the 1970s. Additional program details, including the schedule of fees and application instructions, will be available online at: https://www.census.gov/programs-surveys/gupcp.html.

DATES: The GUPCP will be reinstated on January 1, 2024.

FOR FURTHER INFORMATION CONTACT: Lindsay Spell, Population Division, U.S. Census Bureau, by email at lindsay.spell@census.gov or telephone at 301-763-1652.

SUPPLEMENTARY INFORMATION: Following the 1970 decennial census and after every subsequent decennial census, the Census Bureau provided the opportunity for tribal, state, and local governments to obtain certified population and housing counts for areas where the boundaries have changed from those used to tabulate the results of the immediately preceding decennial census. These changes occur due to newly incorporated governments, the merger of two or more existing governments, the addition or annexation of land by a government, or other circumstances. The certification process is available to governments established by law for the purpose of implementing specified general-purpose or special-purpose government functions. Most governments have legally established boundaries and names and have officials (usually elected) who have the power to carry out legally prescribed functions, provide services for residents, and raise revenues. These are commonly referred to as general-purpose governments and typically include federally recognized American Indian reservations and off-reservation trust land, counties and county equivalents, boroughs, cities, towns, villages, and townships. Special-purpose governments, such as school districts, typically are limited to one function.

The Census Bureau is issuing this notice to reinstate the GUPCP as a centralized system for certifying decennial population and housing counts. This service will be a permanent process, but one that will be suspended in advance of future decennial censuses. Typically, the Census Bureau will suspend this service and direct its resources to the decennial census for approximately five years. This includes the two years preceding the decennial census, the decennial census year, and the two years following it. The Census Bureau will issue notices in the Federal Register announcing when it suspends and, in turn, resumes the service.

The Census Bureau first began to make updated decennial census count determinations to reflect geographic boundary changes in 1972 in response to the requests of local governments to establish eligibility for participation in the General Revenue Sharing Program, authorized under Public Law 92-512. At that time, the Census Bureau established a fee-based service enabling governments with annexations to obtain updated decennial census population counts that reflected the population living in the annexed areas. The Census Bureau also received funding from the U.S. Department of the Treasury to make those determinations for larger annexations that met prescribed criteria, and for new incorporations. The General Revenue Sharing Program ended on September 30, 1986, but the certification program continued into 1988 with support from the Census Bureau. The program was suspended to accommodate the taking of the 1990 decennial census and resumed in 1992. The Census Bureau supported the program through fiscal year 1995 for cities with large annexations and through fiscal year 1996 for newly incorporated places. The program was continued as a fee-based service until June 1, 1998, at which time it was suspended for the 2000 decennial census (see the Federal Register, 63 FR 27706, May 20, 1998). In 2002, the program resumed and has since been referred to as the Geographically Updated Population Certification Program or GUPCP (see the Federal Register, 67 FR 72095, December 4, 2002). GUPCP was suspended again in 2008 to accommodate the taking of the 2010 Census (see the Federal Register, 72 FR 46602, August 21, 2007), as well as in 2019 to accommodate the taking of the 2020 Census (see the Federal Register, 83 FR 53029, October 19, 2018).

Although there is no legal requirement that the Census Bureau provide this service, there is a demand from governments for 2020 Census population and housing counts to be certified to reflect boundary updates or the formation of new governments dated after January 1, 2020, the legal effective date for boundaries used in tabulating the 2020 Census. Title 13, United States Code (U.S.C.), section 8 allows the Census Bureau to conduct this program by providing certain statistical materials upon payment of costs for the service. The Census Bureau is the sole provider of this service, which is based on processing 2020 Census enumeration records protected by the confidentiality restrictions at 13 U.S.C. 8 and 9.

A geographically updated population certification from the Census Bureau confirms that an official population and housing count is an accurate re-tabulation of the 2020 Census population and housing as configured for the updated government boundaries. A population certification may be needed for many reasons. For example, general-purpose governments may be required by state law to produce a Census Bureau population and housing certification for funds disbursement from their respective state, or federally sponsored programs may require or honor a Census Bureau population and housing certification for program eligibility. Special-purpose governments may also need official certification of census population and housing counts for other purposes.

The Census Bureau is reinstating the fee-based service that will use current geographic and demographic programs to support customer requests. The final fee structure will reflect variations in the resources needed to meet customer requirements for certifications of standard governmental units and will be posted online at: https://www.census.gov/programs-surveys/gupcp.html. There are two types of fees, based upon whether the population certificate is generated through an annually scheduled geographic update process or is expedited in order to meet customer needs. Governments requesting certification must complete Form BC-1869(EF), “Geographically Updated Population Certification Program (GUPCP) Request”. This form will be available online at: https://www.census.gov/programs-surveys/gupcp.html. Tribal, state, and local governments should submit requests for certifications on Form BC-1869(EF) by email to the Census Bureau at pop.lgemp@census.gov. Communication requesting the service without Form BC-1869(EF) will be accepted only if it contains the information necessary to complete the form.

Paperwork Reduction Act: Notwithstanding any other provision of law, no person is required to respond to, nor shall a person be subject to a penalty for failure to comply with, a collection of information subject to the requirements of the Paperwork Reduction Act (PRA) (44 U.S.C. 3501 et seq.), unless that collection of information displays a current Office of Management and Budget control number. This notice does not represent a collection of information and is not subject to the PRA's requirements. The form reference in the notice, Form BC-1869(EF), will collect only information necessary to process a certification request. As such, it is not subject to the PRA's requirements.

Robert L. Santos, Director, Census Bureau, approved the publication of this notice in the Federal Register.

Dated: December 7, 2023.
Shannon Wink,
Program Analyst, Policy Coordination Office, U.S. Census Bureau.

[FR Doc. 2023-27207 Filed 12-11-23; 8:45 am]

BILLING CODE 3510-07-P